NATIONAL SCIENCE FOUNDATION

Committee Management; Notice of Establishment

The Deputy Director of the National Science Foundation has determined that the establishment of the Advisory Committee for International Science and Engineering is necessary and in the public interest in connection with the performance of duties imposed upon the National Science Foundation (NSF), by 42 U.S.C. 1861 et seq. This determination follows consultation with the Committee Management Secretariat, General Services Administration.

Name of Committee: Advisory Committee for International Science and Engineering.

Nature/Purpose: The Advisory Committee will provide advice, recommendations, and oversight concerning support for research, education and related activities involving the U.S. science and engineering working within a global context as well as strategic efforts to promote a more effective NSF role in international science and engineering.

Responsible NSF Official: Dr. Kathryn Sullivan, Acting Director, Office of International Science and Engineering Programs, National Science Foundation, 4201 Wilson Boulevard, Room 935, Arlington, VA 22230. Telephone: (703) 292-8710.

Dated: May 3, 2005.
Susanne Bolton,
Committee Management Officer.

[FR Doc. 05-9095 Filed 5-5-05; 8:45 am]

BILLING CODE 7555-01-M